DEPARTMENT OF DEFENSE

Office of the Secretary

[Transmittal No. 21-58]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-58 with attached Policy Justification and Sensitivity of Technology.

Dated: March 27, 2023.
Aaron T. Siegel,
Alternate OSD Federal Register Liaison Officer, Department of Defense.

BILLING CODE 5001-06-P

BILLING CODE 5001-06-C

Transmittal No. 21-58

Notice of Proposed Issuance of Letter of Offer Pursuant to Section 36(b)(1) of the Arms Export Control Act, as amended

(i) Prospective Purchaser: Government of Australia

(ii) Total Estimated Value:

Major Defense Equipment * | $ 75 million
Other | $ 50 million
TOTAL | $125 million

(iii) Description and Quantity or Quantities of Articles or Services under Consideration for Purchase: The Government of Australia has requested to buy a United States Navy (USN) EA-18G aircraft. The USN EA-18G aircraft will then be modified into a Royal Australian Air Force (RAAF) EA-18G aircraft configuration.

Major Defense Equipment (MDE):

One (1) EA-18G Growler Aircraft (Lot 38 or later)

Non-MDE:

Also included is engineering and modification; verification and validation flight test efforts; maintenance and storage; U.S. Government and contractor engineering/technical assistance; related studies and analysis support; and other related elements of programmatic, technical and logistics support.

(iv) Military Department: Navy (AT-P-SCM)

(v) Prior Related Cases, if any: AT-P-SCI, AT-P-LEN

(vi) Sales Commission, Fee, etc., Paid, Offered, or Agreed to be Paid: None

(vii) Sensitivity of Technology Contained in the Defense Article or Defense Services Proposed to be Sold: See Attached Annex

(viii) Date Report Delivered to Congress: September 30, 2021

* As defined in Section 47(6) of the Arms Export Control Act.

POLICY JUSTIFICATION

Australia—EA-18G Growler Aircraft and Related Defense Services

The Government of Australia has requested to buy a United States Navy (USN) EA-18G aircraft. The USN EA-18G aircraft will then be modified into a Royal Australian Air Force (RAAF) EA-18G aircraft configuration. The sale would include one (1) EA-18G Growler aircraft (Lot 38 or later) and engineering and modification; verification and validation flight test efforts; maintenance and storage; U.S. Government and contractor engineering/technical assistance; related studies and analysis support; and other related elements of programmatic, technical and logistics support. The total estimated value is $125 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

This proposed sale will allow Australia to effectively maintain its current force projection capability that enhances interoperability with U.S. forces well into the future and maintain their original primary level of aircraft authorized. This aircraft would replace Australia's EA-18G A46-311 aircraft lost in an accident at Nellis Air Force Base. Australia currently employs the EA-18G and will have no difficulty absorbing this equipment into its armed forces.

The proposed sale of this aircraft and follow-on support will not alter the basic military balance in the region.

These aircraft will be provided from U.S. Navy stock. There are no known offset agreements proposed in connection with this potential sale.

Implementation of the proposed sale will require U.S. Government and contractor personnel to visit Australia on a temporary basis in conjunction with program technical oversight and support requirements, including program and technical reviews.

There will be no adverse impact on U.S. defense readiness as a result of this proposed sale.

Transmittal No. 21-58

Notice of Proposed Issuance of Letter of Offer Pursuant to Section 36(b)(1) of the Arms Export Control Act

Annex

Item No. vii

(vii) Sensitivity of Technology:

1. The EA-18G is a derivative of the two-seat F/A-18F Super Hornet that performs an array of airborne electronic attack (AEA) missions. The EA-18G integrates the capabilities of an advanced AEA system, as well as other complementary systems to provide one of the most capable AEA platforms in the world.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Australia can provide substantially the same degree of protection for the sensitive technology being released as the U.S. Government. This sale is necessary in furtherance of the U.S. foreign policy and national security objectives outlined in the Policy Justification.

5. All defense services listed in this transmittal have been authorized for release and export to the Government of Australia.

[FR Doc. 2023-06622 Filed 3-29-23; 8:45 am]

BILLING CODE 5001-06-P